DEPARTMENT OF LABOR

Employment and Training Administration

[NAFTA-03791, NAFTA-03791B and NAFTA 03791C]

House of Perfection, Inc., Williston Manufacturing Co., Williston, South Carolina, House of Perfection, Inc., Manning Manufacturing Co., Manning, South Carolina, and House of Perfection, Inc., Sumter Manufacturing Co., Sumter, South Carolina; Amended Certification Regarding Eligibility to Apply for NAFTA Transitional Adjustment Assistance

In accordance with Section 250(a), Subchapter 2, Title II, of the Trade Act of 1974, as amended (19 USC 2273), the Department of Labor issued a Certification of Eligibility to Apply for NAFTA Transitional Adjustment Assistance on April 13, 2000, applicable to workers of House of Perfection, Incorporated, Williston Manufacturing Co., Williston, South Carolina. The notice was published in the Federal Register on May 11, 2000 (65 FR 30444).

At the request of the company, the Department reviewed the certification for workers of the subject firm. The determination was amended on May 18, 2000 to include workers of the subject firms' Capitol City Manufacturing Co. located in West Columbia, South Carolina. Information shows that worker separations will occur at Manning Manufacturing Co. and Sumter Manufacturing Co. when they close in August and October, 2000, respectively. The workers are engaged in employment related to the production of children's apparel such as shorts, tops, blouses and pants for their parent company, House of Perfection, Incorporated, West Columbia, South Carolina.

Accordingly, the Department is amending the certification to cover workers of Manning Manufacturing Co., Manning, South Carolina and Sumter Manufacturing Co., Sumter, South Carolina.

The intent of the Department's certification is to include all workers of House of Perfection, Incorporated who were adversely affected by a shift of production to Mexico.

The amended notice applicable to NAFTA—03791 is hereby issued as follows:

“All workers of House of Perfection, Incorporated, Williston Manufacturing, Williston, South Carolina (NAFTA—03791), Manning Manufacturing Co., Manning, South Carolina (NAFTA—03791B)) and Sumter Manufacturing Co., Sumter, South Carolina (NAFTA—03791C) who became totally or partially separated from employment on or after March 8, 1999 through April 13, 2002 are eligible to apply for NAFTA-TAA under Section 250 of the Trade Act of 1974.”

Signed at Washington, DC this 11th day of August, 2000.
Grant D. Beale,
Program Manager, Division of Trade Adjustment Assistance.

[FR Doc. 00-21732 Filed 8-24-00; 8:45 am]

BILLING CODE 4510-30-M